DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce (the Department) has received requests to conduct administrative reviews of various antidumping and countervailing duty orders and findings with October anniversary dates. In accordance with the Department's regulations, we are initiating those administrative reviews. The Department also received a request to revoke one antidumping duty order in part.

EFFECTIVE DATE: November 21, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2000), for administrative reviews of various antidumping and countervailing duty orders and findings with October anniversary dates. The Department also received a timely request to revoke in part the antidumping duty order on Extruded Rubber Thread from Malaysia.

Initiation of Reviews

In accordance with section 19 CFR 351.221(c)(1)(i), we are initiating administrative reviews of the following antidumping and countervailing duty orders and findings. We intend to issue the final results of these reviews not later than October 31, 2002.

| Period to be reviewed
Antidumping Duty Proceedings
Malaysia: Extruded Rubber Thread A-557-805 | 10/1/00-9/30/01
Filati Lastex Elastofibre Sdn. Bhd. Heveafil Sdn. Bhd
The People's Republic of China:
Helical Spring Lock Washers¹ A-570-822 | 10/1/00-9/30/01
Hangzhou Spring Washer Plant (aka Zhejiang Wanxin Group Co., Ltd.)
Barium Chloride ² A-570-007 | 10/1/00-9/30/01
China National Chemicals Import and Export Corp
Zhang Jia Ba
Tangshan
Tianjin Chemical
Red Star
Linshu
Ermeishang
Hengnan
Buohai
Kunghan
Xinji
Countervailing Duty Proceedings
None.
Suspension Agreements
Russia: Uranium A-821-802 | 10/1/00-9/30/01
¹ If one of the above-named companies does not qualify for a separate rate, all other exporters of helical spring lock washers from the People's Republic of China who have not qualified for a separate rate are deemed to be covered by this review as part of the single PRC entity of which the named exporters are a part.
² If one of the above-named companies does not qualify for a separate rate, all other exporters of barium chloride from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: November 15, 2001.
Holly A. Kuga,
Senior Office Director for Import Administration.

[FR Doc. 01-29144 Filed 11-20-01; 8:45 am]

BILLING CODE 3510-DS-P